DEPARTMENT OF AGRICULTURE

Forest Service

Boundary Establishment for Cache la Poudre National Wild and Scenic River, Roosevelt National Forest and Rocky Mountain National Park, Larimer County, Colorado

AGENCY: Forest Service, Agriculture (USDA).

ACTION: Notice of availability.

SUMMARY: In accordance with Section 3(b) of the Wild and Scenic Rivers Act, the USDA Forest Service, Washington Office, is transmitting the final boundary for the Cache la Poudre National Wild and Scenic River to Congress.

FOR FURTHER INFORMATION CONTACT: David Tomaschow, Regional Boundary and Title Program Manager, by telephone at 970-219-5740 or via email at david.tomaschow@usda.gov. Individuals who use telecommunication devices for the hearing-impaired (TDD) may call the Federal Information Relay Service (FIRS) at 1-800-877-8339 24 hours a day, every day of the year, including holidays.

SUPPLEMENTARY INFORMATION: The Cache la Poudre Wild and Scenic River boundary description is available for review on the Forest Service website: (https://www.fs.usda.gov/arp/).

Due to COVID-19 health and safety protocols to protect employees and visitors, some Forest Service offices may be closed to the public; please contact the appropriate Forest Service office to determine if they are open or schedule an appointment prior to arrival. The Cache la Poudre Wild and Scenic River boundary is available for review at the following offices if arrangements are made in advance: USDA Forest Service, Yates Building, 14th and Independence Avenues SW, Washington, DC 20024, by telephone 800-832-1355; Rocky Mountain Regional Office, 1617 Cole Boulevard, Building 17, Lakewood, CO 80401, by telephone 303-275-5350; and the Arapaho and Roosevelt National Forests Office, 2150 Centre Avenue, Building E, Fort Collins, CO 80526, by telephone 970-295-6700.

Public Law 99-590 of October 30, 1986, designated Cache la Poudre, Colorado as a National Wild and Scenic River, to be administered by the Secretary of Agriculture and the Secretary of Interior. As specified by law, the boundary will not be effective until ninety days after Congress receives the transmittal.

Christopher French,
Deputy Chief, National Forest System, Forest Service.

[FR Doc. 2022-17960 Filed 8-19-22; 8:45 am]

BILLING CODE 3411-15-P